DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 10, 2008.

Interested persons are invited to submit written comments regarding the subject matter of the investigations to the Director, Division of Trade Adjustment Assistance, at the address shown below, not later than January 10, 2008.

The petitions filed in this case are available for inspection at the Office of the Director, Division of Trade Adjustment Assistance, Employment and Training Administration, U.S. Department of Labor, Room C-5311, 200 Constitution Avenue, NW., Washington, DC 20210.

Signed at Washington, DC, this 26th day of December 2007.
Linda G. Poole,
Certifying Officer, Division of Trade Adjustment Assistance.

Appendix
[TAA petitions instituted between 12/17/07 and 12/21/07]
TA-W | Subject firm (Petitioners) | Location | Date of institution | Date of petition
62577 | Warnaco Group (Wkrs) | Los Angeles, CA | 12/17/07 | 12/13/07
62578 | Safety Light Corporation (Comp) | Bloomsburg, PA | 12/17/07 | 12/10/07
62579 | Durham Manufacturing Company (State) | Durham, CT | 12/17/07 | 12/14/07
62580 | Belden CDT Networking, Inc. dba Mohawk (State) | Manchester, CT | 12/18/07 | 12/17/07
62581 | ADA Metal Products, Inc. (Comp) | Lincolnwood, IL | 12/18/07 | 12/17/07
62582 | Smurfit Stone (Wkrs) | El Paso, TX | 12/18/07 | 12/11/07
62583 | Peoploungers (Wkrs) | Nettleton, MS | 12/18/07 | 12/18/07
62584 | General Dynamics (Union) | Scranton, PA | 12/18/07 | 12/14/07
62585 | New NY Fashion, Inc. (Wkrs) | New York, NY | 12/18/07 | 12/07/07
62586 | Tennplasco Mark (State) | Lafayette, TN | 12/18/07 | 12/17/07
62587 | Deluxe Media Services LLC (Comp) | Vernon Hills, IL | 12/18/07 | 12/16/07
62588 | Rad Technologies (State) | North Reading, MA | 12/18/07 | 12/13/07
62589 | Hubbard Supply Company (State) | Flint, MI | 12/19/07 | 12/18/07
62590 | Imation Corporation (State) | Oakdale, MN | 12/19/07 | 12/18/07
62591 | Miss Elaine, Inc. (UNITE) | St. Louis, MO | 12/20/07 | 12/18/07
62592 | J.H.L. Fashion, Inc. (Wkrs) | New York, NY | 12/20/07 | 12/19/07
62593 | Cudahy Tanning Company Inc. (Comp) | Cudahy, WI | 12/20/07 | 12/19/07
62594 | Hallmark Cards Inc. (Wkrs) | Kansas City, MO | 12/20/07 | 12/19/07
62595 | Cisco Systems Inc. (Wkrs) | Petaluma, CA | 12/20/07 | 12/07/07
62596 | First Inertia Switch Ltd. (Rep) | Grand Blanc, MI | 12/20/07 | 12/19/07
62597 | Parma Corporation (Comp) | Denton, NC | 12/20/07 | 12/19/07
62598 | Matthew Cole, Inc. (Comp) | Philadelphia, PA | 12/21/07 | 12/21/07
62599 | J.C. Matthews and Co., Inc. (Comp) | Galax, VA | 12/21/07 | 07/14/07
62600 | OSRAM Sylvania Products Inc. (Comp) | Waldoboro, ME | 12/21/07 | 12/19/07

[FR Doc. E7-25360 Filed 12-28-07; 8:45 am]

BILLING CODE 4510-FN-P